DEPARTMENT OF AGRICULTURE

Animal and Plant Health Inspection Service

[Docket No. APHIS-2010-0061]

Notice of Decision to Allow Interstate Movement of Guavas From Hawaii Into the Continental United States

AGENCY: Animal and Plant Health Inspection Service, USDA.

ACTION: Notice.

SUMMARY: We are advising the public of our decision to begin allowing the interstate movement into the continental United States of fresh guava fruit from Hawaii. Based on the findings of a pest risk analysis, which we made available to the public for review and comment through a previous notice, we believe that the application of one or more designated phytosanitary measures will be sufficient to mitigate the risks of introducing or disseminating plant pests or noxious weeds via the interstate movement of guavas from Hawaii.

DATES: Effective Date: January 19, 2011.

FOR FURTHER INFORMATION CONTACT: Mr. David Lamb, Import Specialist, PPQ, APHIS, 4700 River Road Unit 133, Riverdale, MD 20737-1236; (301) 734-0627.

SUPPLEMENTARY INFORMATION:

Background

Under the regulations in “Subpart—Regulated Articles From Hawaii and the Territories” (7 CFR 318.13-1 through 318.13-26, referred to below as the regulations), the Animal and Plant Health Inspection Service (APHIS) of the U.S. Department of Agriculture prohibits or restricts the interstate movement of fruits and vegetables into the United States from Hawaii, Puerto Rico, the U.S. Virgin Islands, Guam, and the Commonwealth of the Northern Mariana Islands to prevent plant pests and noxious weeds from being introduced into and spread within the continental United States. (The continental United States is defined in § 318.13-2 of the regulations as the 48 contiguous States, Alaska, and the District of Columbia.)

Section 318.13-4 contains a performance-based process for approving the interstate movement of commodities that, based on the findings of a pest risk analysis, can be safely imported subject to one or more of the designated phytosanitary measures listed in paragraph (b) of that section. Under that process, APHIS publishes a notice in the Federal Register announcing the availability of the pest risk analysis that evaluates the risks associated with the interstate movement of a particular fruit or vegetable. Following the close of the 60-day comment period, APHIS may begin allowing the interstate movement of the fruit or vegetable subject to the identified designated measures if: (1) No comments were received on the pest risk analysis; (2) the comments on the pest risk analysis revealed that no changes to the pest risk analysis were necessary; or (3) changes to the pest risk analysis were made in response to public comments, but the changes did not affect the overall conclusions of the analysis and the Administrator's determination of risk.

In accordance with that process, we published a notice ¹ in the Federal Register on August 25, 2010 (75 FR 52304-52305, Docket No. APHIS-2010-0061), in which we announced the availability, for review and comment, of a pest risk analysis that evaluates the risks associated with the interstate movement of guavas (Psidium guajava L.) from Hawaii into the continental United States. We solicited comments on the notice for 60 days ending on October 25, 2010. We received one comment by that date, from a State department of agriculture. The commented supported the action described in the notice. Therefore, in accordance with the regulations in § 318.13-4, we are announcing our decision to begin allowing the interstate movement of guavas from Hawaii into the continental United States subject to the following phytosanitary measures:

¹ To view the notice, the pest risk analysis, and the comment we received, go to http://www.regulations.gov/fdmspublic/component/main?main=DocketDetail&d=APHIS-2010-0061.

• The guavas must be irradiated in accordance with 7 CFR part 305 with a minimum absorbed dose of 400 Gy.

• The guavas must be inspected by an inspector in Hawaii and found free of Eutetranychus orientalis and Oligonychus biharensis.

• The guavas may be moved in as commercial consignments only.

These conditions will be listed in the Hawaii Fruits and Vegetables Manual (available at http://www.aphis.usda.gov/import_export/plants/manuals/ports/downloads/hawaii.pdf). In addition to those specific measures, guavas from Hawaii will be subject to the general requirements listed in § 318.13-3 that are applicable to the interstate movement of all fruits and vegetables from Hawaii.

Authority: 7 U.S.C. 7701-7772 and 7781-7786; 7 CFR 2.22, 2.80, and 371.3.

Done in Washington, DC, this 12th day of January 2011.
Kevin Shea,
Acting Administrator, Animal and Plant Health Inspection Service.

[FR Doc. 2011-985 Filed 1-18-11; 8:45 am]

BILLING CODE 3410-34-P